DEPARTMENT OF HEALTH AND HUMAN SERVICES

Administration for Community Living

Agency Information Collection Activities; Submission for OMB Review; Public Comment Request; Title VI Program Performance Report (OMB Control Number 0985-0007)

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the Title VI Program Performance Report (OMB Control Number 0985-0007).

DATES: Comments on the collection of information must be submitted electronically by 11:59 p.m. (EST) or postmarked by January 29, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Delaney Roach, Administration for Community Living, evaluation@acl.hhs.gov, (202) 795-7316.

SUPPLEMENTARY INFORMATION: In compliance with the Paperwork Reduction Act, the Administration for Community Living (ACL) has submitted the following proposed collection of information to OMB for review and clearance. A Program Performance Report on activities under title VI of the Older Americans Act (OAA) is necessary for ACL to monitor Federal funds effectively and to be informed as to the progress of the programs. Grantees are required to submit an annual Program Performance Report to allow for efficient Federal monitoring.

The OAA states that the tribal organization (applicant) for a grant under title VI part A, Indian Program, report data for ACL to comply with requirements under the OAA. The OAA also states that an applicant under title VI part B, Native Hawaiian Program, provide that the organization will report information for the agency Assistant Secretary to reasonably require, and comply with such requirements. An applicant for a grant under title VI part C, Native American Caregiver Support Program must also prepare and submit reports on the data and records, including information on the services funded by ACL. A combined Program Performance Report form is used for reporting by grantees under Parts A, B and C. The regulations require grantees to submit annual performance reports unless ACL requires quarterly or semiannual reports.

The Program Performance Report provides a data base for ACL to: (1) monitor program achievement of performance objectives; (2) establish program policy and direction; and (3) prepare responses to Congress, the OMB, other Federal departments, and public and private agencies as required by the OAA. If ACL did not collect the program data herein requested, it would not be able to monitor and manage total program progress as expected, nor develop program policy options directed toward assuring the most effective use of limited title VI funds.

Comments in Response to the 60-Day Federal Register Notice

A 60-day FRN published in the FR on October 25, 2023, at 88 FR 73344-73345. ACL did not receive any public comments during the 60-day FRN public comment period.

Estimated Program Burden: The burden estimate is specific to the type of work done by the grantees that use this reporting format; ACL estimates it takes 3.5 hours to complete the title VI PPR. With 282 respondents taking 3.5 hours per performance report, annual burden hour totals 987 hours.

Respondent/data collection activity | Number of respondents | Responses per respondent | Hours per response | Annual burden hours
Title VI PPR | 282 | 1 | 3.5 | 987
Total |  |  |  | 987

Dated: December 21, 2023.
Alison Barkoff,
Principal Deputy Administrator for the Administration for Community Living, performing the delegable duties of the Administrator and the Assistant Secretary for Aging

[FR Doc. 2023-28577 Filed 12-27-23; 8:45 am]

BILLING CODE 4154-01-P